CONSUMER PRODUCT SAFETY COMMISSION

[Petition HP 06-2]

Petition for Labeling Exemption for Mini Sparklers

AGENCY: Consumer Product Safety Commission.

ACTION: Notice.

SUMMARY: The United States Consumer Product Safety Commission (Commission or CPSC) has received a petition (HP 06-2) requesting that the Commission exempt mini sparkler tubes from the labeling requirement for sparklers that states that they must say “For Outdoor Use Only.”

DATES: The Office of the Secretary must receive comments on the petition by August 28, 2006.

ADDRESSES: Comments on the petition may be filed by e-mail to cpsc-os@cpsc.gov. Comments may also be filed by facsimile to (301) 504-0127, or delivered or mailed, preferably in five copies, to the Office of the Secretary, Consumer Product Safety Commission, 4330 East West Highway, Bethesda, MD 20814, telephone (301) 504-7923. Comments should be captioned “Petition HP 06-2, Petition Requesting Labeling Exemption for Mini Sparklers.” The petition is available on the CPSC Web site at http://www.cpsc.gov. A request for a hard copy of the petition may be directed to the Office of the Secretary.

FOR FURTHER INFORMATION CONTACT: Rockelle Hammond, Office of the Secretary, Consumer Product Safety Commission, 4330 East West Highway; telephone (301) 504-6833, e-mail rhammond@cpsc.gov.

SUPPLEMENTARY INFORMATION: The Commission has received correspondence from Octavius Hunt requesting that the Commission exempt mini sparkler tubes from the labeling requirement for sparklers that states that they must say “For Outdoor Use Only.” The request for the labeling exemption was docketed as petition number HP 06-2 under the Federal Hazardous Substances Act, 15 U.S.C. 1261-1278.

Octavius Hunt states that its mini sparklers are designed and safety-tested for indoor use according to the British Standard 7114 Part 2 1988. According to Octavius Hunt, mini sparklers are classed as hand-held sparklers under the British Standard, whereby the total net explosive content is less than or equal to 1.5 g per sparkler, which must burn completely. Octavius Hunt claims the testing requirements for indoor hand-held sparklers are more stringent than the requirements for outdoor hand-held sparklers, and that these stringent tests mean that these sparklers are suitable for hand held indoor use. Octavius Hunt claims the mini sparklers are designed in order to ensure composition does not drop off from the sparkler and that sparks do not emit from the burning sparkler.

Interested parties may obtain a copy of the petition on the CPSC Web site at http://www.cpsc.gov or by writing or calling the Office of the Secretary, Consumer Product Safety Commission, 4330 East West Highway, Bethesda, MD 20814; telephone (301) 504-7923.

Dated: June 22, 2006.
Todd A. Stevenson,
Secretary, Consumer Product Safety Commission.

[FR Doc. E6-10097 Filed 6-26-06; 8:45 am]

BILLING CODE 6355-01-P